DEPARTMENT OF AGRICULTURE

Forest Service

Colville Resource Advisory Committee (RAC)

AGENCY: Forest Service, USDA.

ACTION: Notice of meeting.

SUMMARY: The Colville Resource Advisory Council will meet on Wednesday, June 19, 2002 at the Spokane Community College, Colville Campus, Dominion Room at 985 S. Elm Street, Colville, Washington. The meeting will begin at 9 a.m. and conclude at 4 p.m.

Agenda items include: (1) Review, modify and approve minutes from March 21st meeting; (2) review and recommend Title II Projects for FY2003 to be submitted to the forest designated official; (3) develop agenda for next meeting, and (4) Public Forum.

FOR FURTHER INFORMATION CONTACT: Direct questions regarding this meeting to designated federal official, Nora Rasure or Cynthia Reichelt, Public Affairs Officer, Colville National Forest, 765 S. Main, Colville, Washington 99114: (509) 684-7000.

Dated: May 22, 2002.
Nora B. Rasure,
Forest Supervisor.

[FR Doc. 02-13629 Filed 5-30-02; 8:45 am]

BILLING CODE 3410-11-M